DEPARTMENT OF VETERANS AFFAIRS

38 CFR Part 36

RIN 2900-AJ86

Loan Guaranty: Advertising and Solicitation Requirements; Correction

AGENCY: Department of Veterans Affairs.

ACTION: Final rule; correction.

SUMMARY: In a document published in the Federal Register on March 1, 2002 (67 FR 9402), we amended VA's loan guaranty regulations by prohibiting advertisements or solicitations from lenders that falsely state or imply that they were issued by or at the direction of VA or any other entity of the United States Government. The document contains a typographical error in the “Approved” date section. This document corrects that typographical error.

EFFECTIVE DATE: This correction is effective March 1, 2002.

FOR FURTHER INFORMATION CONTACT: R.D. Finneran, Assistant Director for Loan Policy and Valuation (262), Loan guaranty Service, Veterans Benefits Administration, Department of Veterans Affairs, 810 Vermont Avenue, NW., Washington, DC 20420, (202) 273-7368.

SUPPLEMENTARY INFORMATION: In rule FR Doc. 02-4866, published on March 1, 2002 (67 FR 9402), on page 9402, in column 3, the date “December 3, 2002” is corrected to read “December 3, 2001”.

Approved: March 1, 2002.
Thomas O. Gessel,
Director, Office of Regulatory Law.

[FR Doc. 02-5661 Filed 3-7-02; 8:45 am]

BILLING CODE 8320-01-M